POSTAL SERVICE

Board of Governors; Sunshine Act Meeting

DATES AND TIMES: Thursday, August 4, 2011, at 10 a.m.; and Friday, August 5, at 8:30 a.m. and 10:30 a.m.

PLACE: Washington, DC, at U.S. Postal Service Headquarters, 475 L'Enfant Plaza, S.W., in the Benjamin Franklin Room.

STATUS: Thursday, August 4 at 10 a.m.—Closed; Friday, August 5, at 8:30 a.m.—Open; and at 10:30 a.m.—Closed

MATTERS TO BE CONSIDERED:

Thursday, August 4 at 10 a.m. (Closed)

1. Strategic Issues.

2. Financial Matters.

3. Pricing.

4. Personnel Matters and Compensation Issues.

5. Governors' Executive Session—Discussion of prior agenda items and Board Governance.

Friday, August 5 at 8:30 a.m. (Open)

1. Approval of Minutes of Previous Meetings.

2. Remarks of the Chairman of the Board.

3. Remarks of the Postmaster General and CEO.

4. Committee Reports.

5. Quarterly Report on Service Performance.

6. Quarterly Report on Financial Performance

7. Tentative Agenda for the September 12-13, 2011, meeting in Washington, D.C.

Friday, August 5 at 10:30 a.m. (Closed—If Needed)

1. Continuation of Thursday's closed session agenda.

CONTACT PERSON FOR MORE INFORMATION: Julie S. Moore, Secretary of the Board, U.S. Postal Service, 475 L'Enfant Plaza, SW., Washington, DC 20260-1000. Telephone (202) 268-4800.

Julie S. Moore,
Secretary.

[FR Doc. 2011-18640 Filed 7-19-11; 4:15 pm]

BILLING CODE 7710-12-P